ENVIRONMENTAL PROTECTION AGENCY

[FRL-7817-4]

Connecticut Marine Sanitation Device Standard; Notice of Determination

Coastal waters between Wamphassuc Point and Eastern Point, including portions of Fishers Island Sound, Pine Island Bay, Baker Cove, Mumford Cove, West Cove, Mystic Harbor, Mystic River, Quiambog Cove, lower portions of the Poquonnock River and lower portions of Palmer Cove in Connecticut.

On April 16, 2004 notice was published that the State of Connecticut had petitioned the Regional Administrator, Environmental Protection Agency, to determine that adequate facilities for the safe and sanitary removal and treatment of sewage from all vessels are reasonably available for all waters between Wamphassuc Point and Eastern Point, including portions of Fishers Island Sound, Pine Island Bay, Baker Cove, Mumford Cove, West Cove, Mystic Harbor, Mystic River, Quiambog Cove, lower portions of the Poquonnock River and lower portions of Palmer Cove. The petition was filed pursuant to Section 312(f)(3) of Public Law 92-500, as amended by Public Laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to me by the State of Connecticut certified that there are eleven disposal facilities available to service vessels operating in the Groton/Mystic portions of Connecticut waters. A list of the facilities, phone numbers, locations, and hours of operation is appended at the end of the determination.

Based on the examination of the petition and its supporting information, which included site visits by EPA New England staff, I have determined that adequate facilities for the safe and sanitary removal and treatment of sewage from all vessels are reasonably available for the area covered under this determination.

The area covered under this determination extends from Eastern Point, Groton at (41°19′08.94″ N by 72°04′31.09″ W) due south to the boundary between Connecticut and New York at (41°15′54.55″ N by 72°04′31.09″ W), then northeasterly following the boundary between Connecticut and New York to (41°17′26.34″ N by 72°01′10.94″ W) then continuing northeasterly following the boundary between Connecticut and New York to (41°18′37.84″ N by 71°55′47.63″ W) then south east following the boundary between Connecticut and New York to a point due south of Wamphassuc Point at (41°18′28.99″ N by 71°55′15.75″ W), then due north past Noyes shoal to Wamphassuc Point (41°19′40.63″ N by 71°55′15.75″ W), and following the boundary between Connecticut and Rhode Island to U. S. Route 1 over the Pawcatuck River and including all Connecticut waters seaward of U.S. Route 1.

This determination is made pursuant to Section 312(f)(3) of Public Law 92-500, as amended by Public Laws 95-217 and 100-4.

EPA has prepared a response to the one written comment it received during the 45-day comment period, and it may be requested from EPA by writing to: Ann Rodney, U.S. EPA New England, 1 Congress Street, Suite 1100, CWQ, Boston, MA 02114-2023.

Dated: September 13, 2004.
Robert Varney,
Regional Administrator.

Name | Location | Contact information | Hours of operation | Mean low water depth | Fee
Shennecossett Yacht Club | Pine Island Bay | VHF CH 68; 860-445-7892 | June-Sept, 9 a.m.-6 p.m | 7 feet | Members Free, $5 for non-members.
Pine Island Marina | Pine Island | VHF CH 68; 860-445-9729 | Apr-Nov, 9 a.m.-5 p.m | 8 feet | Free (portable cart).
Spicer's Noank Marina | Mystic Harbor West Cove | VHF CH 68; 860-536-4978 | Apr-Nov, 9 a.m.-5 p.m | 6 feet | Free self service portable cart; $20 Service by marina staff with portable cart; (free dump station).
Noank Shipyard | Mystic Harbor | VHF CH 9; 860-536-9651 | Year round, 8 a.m.-4:30 p.m | 15 feet | $5, free for customers.
Noank Village Boatyard | Mystic River, Noank | VHF CH 68; 860-536-1770 | May-Dec, 8:30 a.m.-5 p.m | 8 feet | $5 token for self service at stationary; $30 mobile service, (1 stationary 1 portable).
Mystic Shipyard | Mystic Harbor | VHF CH 9, 68; 860-536-6588 | June-Sept, 8 a.m.-5 p.m.; May-Oct M-F 8 a.m.-5 p.m | 10 feet | Free.
Mystic Seaport Pumpouts | Mystic River | VHF CH 68; 860-572-0711 | July-Aug, 8 a.m.-7 p.m.; May, June, Sept, & Oct, 8 a.m.-4 p.m | 15 feet | Free, (2 pumpouts).
Mystic Shipyard East | Mystic River | VHF CH 9, 68; 860-536-4882 | May-Oct, 8 a.m.-4 p.m | 3 feet | $5, free for customers.
Brewer Yacht Yard at Mystic | Mystic River | 860-536-2293 | May-Nov, Sun-Thur, 8 a.m.-5 p.m.; Fri-Sat, 8 a.m.-8 p.m | 11 feet | $5, free for customers.
Brower's Cove Marina | Mystic River | 860-536-8864 | Year Round, 9 a.m.-5 p.m | N/A (dump station only) | Free.
Mystic River Marina | Mystic River | VHF CH 9; 860-536-3123 | May-Sept, 8 a.m.-5 p.m | 9 feet | $5.
Groton, Noank, Mystic Pumpout boat | Mystic River | VHF CH 68; 860-460-7336, 860-448-4084 | Memorial Day-Oct, Sat, Sun & Mon; holidays, 10 a.m.-6 p.m | N/A (boat) | Free.

[FR Doc. 04-21287 Filed 9-23-04; 8:45 am]

BILLING CODE 6560-50-P